DEPARTMENT OF EDUCATION

Advisory Committee on Student Financial Assistance; Meeting

AGENCY: Advisory Committee on Student Financial Assistance, Education.

ACTION: Notice of upcoming meeting.

SUMMARY: This notice sets forth the schedule and proposed agenda of the forthcoming meeting of the Advisory Committee on Student Financial Assistance which is open to the public. Individuals who will need accommodations for a disability in order to attend the meeting (i.e., interpreting services, assistive listening devices, and/or materials in alternative format) should notify Ms. Hope M. Gray at 202-708-7439 or via e-mail at hope_gray@ed.gov no later than Wednesday, February 14, 2001. We will attempt to meet requests after this date, but cannot guarantee availability of the requested accommodation. The meeting site is accessible to individuals with disabilities. This notice also describes the functions of the Committee. Notice of this meeting is required under section 10(a)(2) of the Federal Advisory Committee Act. This document is intended to notify the general public.

DATES AND TIMES: Tuesday, February 20, 2001, beginning at 8:30 a.m. and ending at approximately 5 p.m.; and Wednesday, February 21, 2001, beginning at 8:30 a.m. and ending at approximately 2 p.m.

ADDRESSESS: The Radisson Barcelo Hotel, the Phillips Ballroom, 2121 P Street, NW., Washington, DC 20037.

FOR FURTHER INFORMATION CONTACT: Dr. Brian K. Fitzgerald, Staff Director, Advisory Committee on Student Financial Assistance, Portals Building, 1280 Maryland Avenue, SW., Suite 601, Washington, DC 20202-7582 (202) 708-7439.

SUPPLEMENTARY INFORMATION: The Advisory Committee on Student Financial Assistance is established under section 491 of the Higher Education Act of 1965 as amended by Public Law 100-50 (20 U.S.C. 1098). The Advisory Committee serves as an independent source of advice and counsel to the Congress and the Secretary of Education on student financial aid policy. Since its inception, the Committee has been charged with providing technical expertise with regard to systems of need analysis and application forms, making recommendations that result in the maintenance of access to postsecondary education for low- and middle-income students; conducting a study of institutional lending in the Stafford Student Loan Program; assisting with activities related to the 1992 reauthorization of the Higher Education Act of 1965; conducting a third-year evaluation of the Ford Federal Direct Loan Program (FDLP) and the Federal Family Education Loan Program (FFELP) under the Omnibus Budget Reconciliation Act (OBRA) of 1993; and assisting Congress with the 1998 reauthorization of the Higher Education Act.

The congressional mandate requires the Advisory Committee to conduct objective, nonpartisan, and independent analyses on important aspects of the student programs under Title IV of the Higher Education Act. The Committee traditionally approaches its work from a set of fundamental goals: promoting program integrity, eliminating or avoiding program complexity, integrating delivery across the Title IV programs, and mimizing burden on students and institutions.

Reauthorization of the Higher Education Act has provided the Advisory Committee with a significantly expanded agenda in six major areas, such as Performance-based Organization (PBO); Modernization; Technology; Simplication of Law and Regulation; Distance Education; and Early Information and Needs Assessment. In each of these areas, Congress has asked the Committe to: monitor progress toward implementing the Amendments of 1998; conduct independent, objective assessments; and make recommendations for improvement to the Congress and the Secretary. Each of these responsibilities flows logically from and effectively implements one or more of the Committee's original statutory functions and purposes.

The proposed agenda includes: (a) Unveiling the Committee's findings on the condition and access to higher education for low-income students and its policy priorities for the new administration, (b) discussion sessions on the condition of access today and the implications of strong demographic trends already underway, (c) the realignment of policy priorities required to respond effectively to today's and tomorrow's challenges, and (d) the Committee's plan for the remainder of fiscal year 2001. In addition, other Committee business will be addressed. Space is limited and you are encouraged to register early if you plan to attend. You may register through Internet at ADV_COMSFA@ED.gov or Tracy_Jones@ED.gov. Please include your name, title, affiliation, complete address (including Internet and e-mail—if available), and telephone and fax numbers. If you are unable to register electronically, you may mail or fax your registration information to the Advisory Committee staff office at (202) 401-3467. Also, you may contact the Advisory Committee staff at (202) 708-7439. The registration deadline is Wednesday, February 14, 2001.

The Advisory Committee will meet in Washington, DC. on Tuesday, February 20, 2001, from 8:30 a.m. until approximately 5 p.m., and on Wednesday, February 21, from 8:30 a.m. until approximately 2 p.m.

Records are kept of all Committee proceedings, and are available for public inspection at the Office of the Advisory Committee on Student Financial Assistance, Portals Building, 1280 Maryland Avenue, SW., Suite 601, Washington, DC from the hours of 9 a.m. to 5:30 p.m., weekdays, except Federal holidays.

Dated: February 1, 2001.
Dr. Brian K. Fitzerald,
Staff Director, Advisory Committee on Student Financial Assistance.

[FR Doc. 01-3111 Filed 2-6-01; 8:45 am]

BILLING CODE 4000-01-M